DEPARTMENT OF COMMERCE

National Oceanic and Atmospheric Administration

RIN 0648-XE074

Atlantic Highly Migratory Species; Meeting of the Atlantic Highly Migratory Species Advisory Panel; Correction

AGENCY: National Marine Fisheries Service (NMFS), National Oceanic and Atmospheric Administration (NOAA), Commerce.

ACTION: Notice of public meeting and webinar/conference call; correction.

SUMMARY: This document corrects the ADDRESSES section to the Notice of public meeting and webinar/conference call that was published on August 5, 2015, which did not contain all of the necessary information for those interested in participating in the webinar/conference call portion of the Atlantic Highly Migratory Species (HMS) Advisory Panel (AP) meeting in September 2015. This correction changes the webinar event addresses, conference call-in number, and participant codes.

DATES: The HMS AP meeting and webinar will be held from 9 a.m. to 6 p.m. on Wednesday, September 9, 2015; and from 8:30 a.m. to 12 p.m. on Thursday, September 10, 2015.

ADDRESSES: The meeting will be held at the Sheraton Silver Spring, 8777 Georgia Avenue, Silver Spring, MD 20910. The meeting presentations will also be available via WebEx webinar/conference call.

On Wednesday, September 9, 2015, the conference call information is: phone number 1-866-509-5013; Participant Code: 1475429; and the webinar event address is: https://noaaevents2.webex.com/noaaevents2/onstage/g.php?d=999136478&t=a; event password: NOAA.

On Thursday, September 10, 2015, the conference call information is: Phone number 1-866-509-5013; Participant Code: 1475429; and the webinar event address is: https://noaaevents2.webex.com/noaaevents2/onstage/g.php?d=995421572&t=a; event password: NOAA.

Participants are strongly encouraged to log/dial in fifteen minutes prior to the meeting. NMFS will show the presentations via webinar and allow public comment during identified times on the agenda.

FOR FURTHER INFORMATION CONTACT: LeAnn Hogan or Margo Schulze-Haugen at (301) 427-8503.

SUPPLEMENTARY INFORMATION:

Need for Correction

The original notice (80 FR 46544) didn't contain all of the necessary information in the ADDRESSES section. This document corrects the ADDRESSES section so that all interested parties have the necessary information pertaining to the webinar event addresses, conference call-in number, and participant codes.

In addition, we've included the new ADDRESSES section above, for clarity.

Correction

In a Notice published on August 5, 2015 (80 FR 46544), on page 46545, please make the following correction: In the first column, in the second and third paragraphs under the ADDRESSES heading, the WebEx webinar/conference call information is corrected to read as follows:

“On Wednesday, September 9, 2015, the conference call information is: phone number 1-866-509-5013; Participant Code: 1475429; and the webinar event address is: https://noaaevents2.webex.com/noaaevents2/onstage/g.php?d=999136478&t=a; event password: NOAA.

On Thursday, September 10, 2015, the conference call information is: Phone number 1-866-509-5013; Participant Code: 1475429; and the webinar event address is: https://noaaevents2.webex.com/noaaevents2/onstage/g.php?d=995421572&t=a; event password: NOAA.”

Authority: 16 U.S.C. 1801 et seq.

Dated: August 12, 2015.
Alan D. Risenhoover,
Director, Office of Sustainable Fisheries, National Marine Fisheries Service.

[FR Doc. 2015-20222 Filed 8-14-15; 8:45 am]

BILLING CODE 3510-22-P